DEPARTMENT OF EDUCATION

[Docket No.: ED-2021-SCC-0041]

Agency Information Collection Activities; Submission to the Office of Management and Budget for Review and Approval; Comment Request; Safer Schools and Campuses Best Practices Clearinghouse

AGENCY: Office of Elementary and Secondary Education (OESE), Department of Education (ED).

ACTION: Notice.

SUMMARY: In accordance with the Paperwork Reduction Act of 1995, ED is proposing an extension without change of a currently approved collection.

DATES: Interested persons are invited to submit comments on or before June 23, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Victoria Hammer, 202-260-1438.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Safer Schools and Campuses Best Practices Clearinghouse.

OMB Control Number: 1810-0753.

Type of Review: An extension without change of a currently approved collection.

Respondents/Affected Public: State, Local, and Tribal Governments.

Total Estimated Number of Annual Responses: 300.

Total Estimated Number of Annual Burden Hours: 450.

Abstract: On January 21, 2021 the President issued Executive Order (E.O.) 14000 to assist members of the educational community in each State in safely reopening schools for face-to-face instruction and ensuring schools remain open. E.O. 14000 directs the Department to make widely available and easily accessible a variety of resources from the field and Federal agencies and technical assistance to support their dissemination and use. The hub for these resources will be the Clearinghouse described in E.O. 14000. The Department's Office of Elementary and Secondary Education (OESE) will lead development and implementation of the Clearinghouse in partnership with other ED offices and relevant Federal agencies. At the heart of the Clearinghouse will be the lessons learned and best practices collected from schools, districts, States, and institutions of higher education from across the country.

Dated: May 19, 2021.
Kate Mullan,
PRA Coordinator, Strategic Collections and Clearance Governance and Strategy Division, Office of Chief Data Officer, Office of Planning, Evaluation and Policy Development.

[FR Doc. 2021-10921 Filed 5-21-21; 8:45 am]

BILLING CODE 4000-01-P